INTERNATIONAL TRADE COMMISSION

[USITC SE-12-014]

Sunshine Act Meeting

AGENCY HOLDING THE MEETING: United States International Trade Commission.

TIME AND DATE: May 15, 2012 at 9:30 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. No. 731-TA-860 (Second Review) (Tin- and Chromium-Coated Steel Sheet from Japan). The Commission is currently scheduled to transmit its determination and Commissioners' opinions to the Secretary of Commerce on or before May 25, 2012.

5. Vote in Inv. No. 731-TA-891 (Second Review)(Foundry Coke from China). The Commission is currently scheduled to transmit its determination and Commissioners' opinions to the Secretary of Commerce on or before May 29, 2012.

6. Outstanding action jackets: None.

In accordance with Commission policy, subject matter listed above, not disposed of at the scheduled meeting, may be carried over to the agenda of the following meeting.

Issued: April 26, 2012.
By order of the Commission.
James R. Holbein,
Secretary to the Commission.

[FR Doc. 2012-10529 Filed 4-27-12; 11:15 am]

BILLING CODE 7020-02-P